FEDERAL COMMUNICATIONS COMMISSION

47 CFR Part 73

[MB Docket No. 13-207, RM-11700, DA 13-2436]

Radio Broadcasting Services; Heber Springs, Arkansas

AGENCY: Federal Communications Commission.

ACTION: Final rule.

SUMMARY: At the request of Sydney Allison Sugg, the Audio Division amends the FM Table of Allotments, by allotting Channel 270C3 at Heber Springs, Arkansas, as the community third local FM transmission service. A staff engineering analysis confirms that Channel 270C3 can be allotted to Heber Springs consistent with the minimum distance separation requirements of the Rules with a site restriction 12.8 kilometers (7.9 miles) northeast of the community. The reference coordinates are 35-34-12 NL and 91-55-41 WL.

DATES: Effective February 3, 2014.

FOR FURTHER INFORMATION CONTACT: Rolanda F. Smith, Media Bureau, (202) 418-2700.

SUPPLEMENTARY INFORMATION: This is a synopsis of the Commission's Report and Order, MB Docket No. 13-207, adopted December 19, 2013, and released December 20, 2013. The full text of this Commission decision is available for inspection and copying during normal business hours in the FCC's Reference Information Center at Portals II, CY-A257, 445 Twelfth Street SW., Washington, DC 20554. This document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. The Commission will send a copy of this Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Arkansas, is amended by adding Heber Springs, Channel 270C3.

[FR Doc. 2014-00768 Filed 1-16-14; 8:45 am]

BILLING CODE 6712-01-P